DEPARTMENT OF HOUSING AND URBAN DEVELOPMENT

[Docket No. 5378-N-03]

Notice of Proposed Information Collection; Comment Request (Economic Opportunities for Low- and Very Low-Income Persons): Withdrawal of Notice

AGENCY: Office of the Assistant Secretary for Fair Housing and Equal Opportunity, HUD.

ACTION: Notice, withdrawal.

SUMMARY: The Office of Fair Housing and Equal Opportunity, Economic Opportunity Division is announcing the withdrawal of the Economic Opportunity for Low- and Very Low-Income Persons (Section 3) proposed information collection published June 23, 2010. The proposed information collection materials are being withdrawn until final comments are received within HUD. Subsequent notice regarding these proposed information collection materials will be published at that time.

DATES: The withdrawal is effective July 9, 2010.

FOR FURTHER INFORMATION CONTACT: Staci Gilliam, Director, Economic Opportunity Division, Office of Fair Housing and Equal Opportunity, Department of Housing and Urban Development, 451 7th Street, SW., Room 4116, Washington, DC 20410; telephone 202-402-3468, (this is not a toll-free number). Hearing or speech-impaired individuals may access this number TTY by calling the toll-free Federal Information Relay Service at 1-800-877-8399.

SUPPLEMENTARY INFORMATION: This Notice is withdrawing the previous proposed information collection notice regarding Economic Opportunity for Low and Very Low-Income Persons (Section 3), published June 23, 2010. Recipient agencies should continue to use the current version of form HUD 60002 until further notice.

Title of Proposed Notice: Economic Opportunity for Low-and Very Low-Income Persons.

Office: Fair Housing and Equal Opportunity.

OMB Control Number: 2529-0043.

Description of Information Collection: This is a withdrawal of a proposed information collection.

Authority: The Paperwork Reduction Act of 1995, 44 U.S.C. Chapter 35, as amended.

Dated: July 1, 2010.
Staci Gilliam Hampton,
Director, Economic Opportunity Division.

[FR Doc. 2010-16701 Filed 7-8-10; 8:45 am]

BILLING CODE 4210-67-P